DEPARTMENT OF COMMERCE

Foreign-Trade Zones Board

[Order No. 1147]

Expansion of Foreign-Trade Zone 112 and Authority To Conduct Manufacturing Activity; Quantum Corp. (Data Storage Products), Colorado Springs, CO

Pursuant to its authority under the Foreign-Trade Zones Act of June 18, 1934, as amended (19 U.S.C. 81a-81u), the Foreign-Trade Zones Board (the Board) adopts the following Order:

Whereas, the Colorado Springs Foreign-Trade Zone, Inc., grantee of Foreign-Trade Zone 112, submitted an application to the Board for authority to expand FTZ 112 to include three new sites, as well as authority on behalf of Quantum Corporation to manufacture data storage products under zone procedures within FTZ 112 (FTZ Docket 32-2000; filed 6/27/2000);

Whereas, notice inviting public comment was given in the Federal Register (65 FR 41430, 7/5/2000) and the application has been processed pursuant to the FTZ Act and the Board's regulations; and,

Whereas, the Board adopts the findings and recommendations of the examiner's report, and finds that the requirements of the FTZ Act and Board's regulations are satisfied, and that the proposal is in the public interest;

Now, Therefore, the Board hereby orders: The application to expand FTZ 112, and to conduct manufacturing authority (data storage products) by the Quantum Corporation, is approved, subject to the Act and the Board's regulations, including section 400.28, and further subject to the Board's standard 2,000 acre activation limit.

Signed at Washington, DC, this 15th day of March 2001.
Timothy J. Hauser,
Acting Under Secretary for International Trade, Alternate Chairman, Foreign-Trade Zones Board.

[FR Doc. 01-7554 Filed 3-26-01; 8:45 am]

BILLING CODE 3510-DS-P